DEPARTMENT OF THE INTERIOR

National Park Service

[NPS-WASO-NAGPRA-22959; PPWOCRADN0-PCU00RP14.R50000]

Notice of Inventory Completion: U.S. Department of Agriculture, Forest Service, Ouachita National Forest, Hot Springs, AR

AGENCY: National Park Service, Interior.

ACTION: Notice.

SUMMARY: The U.S. Department of Agriculture, Forest Service, Ouachita National Forest, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Ouachita National Forest. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Ouachita National Forest at the address in this notice by April 12, 2017.

ADDRESSES: Norman Wagoner, Forest Supervisor, U.S. Forest Service, Ouachita National Forest, P.O. Box 1270, Hot Springs, AR 71901, telephone (501) 321-5202, email nwagoner@fs.fed.us.

SUPPLEMENTARY INFORMATION: Notice is here given in accordance with the Native American Graves Protection and Repatriation Act (NAGPRA), 25 U.S.C. 3003, of the completion of an inventory of human remains and associated funerary objects under the control of the Ouachita National Forest, Hot Springs, AR. The human remains and associated funerary objects were removed from McCurtain County, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Ouachita National Forest professional staff in consultation with representatives of Caddo Nation of Oklahoma and Choctaw Nation of Oklahoma.

History and Description of the Remains

Between March 1997 and April 2005, human remains representing, at minimum, 8 individuals were removed from sites 34Mc254, 34Mc665, 34Mc762, and 34Mc898 in McCurtain County, OK. These human remains were removed during archeological excavations conducted on private land owned by the Weyerhauser Company. Under terms of a programmatic agreement with the Weyerhauser Company, the human remains and associated funerary objects are under the control of Ouachita National Forest. Dr. Terrance J. Martin, Curator and Chair of Anthropology, Illinois State Museum, Research and Collections Center, thoroughly examined the human remains, along with all associated excavation notes. No known individuals were identified. No associated funerary objects are present. Based on the available information and evidence, the human remains from sites 34Mc254, 34Mc665, 34Mc762, and 34Mc898 are culturally affiliated with Caddo Nation of Oklahoma.

Between March 1997 and April 2005, human remains representing, at minimum, 3 individuals were removed from sites 34Mc590 and 34Mc733 in McCurtain County, OK. These human remains were removed during archeological excavations conducted on private land owned by the Weyerhauser Company. Under terms of a programmatic agreement with the Weyerhauser Company, the human remains and associated funerary objects are under the control of the U.S. Forest Service, Ouachita National Forest. Dr. Terrance J. Martin, Curator and Chair of Anthropology, Illinois State Museum, Research and Collections Center, thoroughly examined the human remains, along with all associated excavation notes. No known individuals were identified. No associated funerary objects are present. Based on archeological evidence, the human remains from sites 34Mc590 and 34Mc733 are culturally affiliated with The Choctaw Nation of Oklahoma.

Between March 1997 and April 2005, human remains representing, at minimum, 1 individual were removed from site 34Mc850 in McCurtain County, OK. These human remains were removed during archeological excavations conducted on private land owned by the Weyerhauser Company. Under terms of a programmatic agreement with the Weyerhauser Company, the human remains and associated funerary objects are under the control of Ouachita National Forest. Dr. Terrance J. Martin, Curator and Chair of Anthropology, Illinois State Museum, Research and Collections Center, thoroughly examined the human remains, along with all associated excavation notes. No known individual was identified. No associated funerary objects are present. Based on archeological evidence, the human remains from site 34Mc850 are culturally affiliated with Caddo Nation of Oklahoma and The Choctaw Nation of Oklahoma.

Determinations Made by Ouachita National Forest

Officials of Ouachita National Forest, have determined that:

• Pursuant to 25 U.S.C. 3001(9), the human remains described in this notice represent the physical remains of a minimum of 12 individuals of Native American ancestry.

• Pursuant to 25 U.S.C. 3001(2), there is a relationship of shared group identity that can be reasonably traced between the Native American human remains and associated funerary objects removed from sites 34Mc254, 34Mc665, 34Mc762, and 34Mc898 and Caddo Nation of Oklahoma.

• Pursuant to 25 U.S.C. 3001(2), there is a relationship of shared group identity that can be reasonably traced between the Native American human remains and associated funerary objects removed from sites 34Mc590 and 34Mc733 and The Choctaw Nation of Oklahoma.

• Pursuant to 25 U.S.C. 3001(2), there is a relationship of shared group identity that can be reasonably traced between the Native American human remains and associated funerary objects removed from site 34Mc850 and Caddo Nation of Oklahoma and The Choctaw Nation of Oklahoma.

Additional Requestors and Disposition

Lineal descendants or representatives of any Indian tribe or Native Hawaiian organization not identified in this notice that wish to request transfer of control of these human remains and associated funerary objects, should submit a written request with information in support of the request to Norman Wagoner, Forest Supervisor, U.S. Forest Service, Ouachita National Forest, P.O. Box 1270, Hot Springs, AR 71901, telephone (501) 321-5202, email nwagoner@fs.fed.us, by April 12, 2017. After that date, if no additional requestors have come forward, transfer of control of the human remains and associated funerary objects to Caddo Nation of Oklahoma and The Choctaw Nation of Oklahoma may proceed.

Ouachita National Forest is responsible for notifying Caddo Nation of Oklahoma and The Choctaw Nation of Oklahoma that this notice has been published.

Dated: February 17, 2017.
Melanie O'Brien,
Manager, National NAGPRA Program.

[FR Doc. 2017-04849 Filed 3-10-17; 8:45 am]

BILLING CODE 4312-52-P